ENVIRONMENTAL PROTECTION AGENCY

40 CFR Part 52

[EPA-R09-OAR-2024-0418; FRL-12225-01-R9]

Air Plan Revisions; California; San Diego County Air Pollution Control District and Mojave Desert Air Quality Management District

AGENCY: Environmental Protection Agency (EPA).

ACTION: Proposed rule.

SUMMARY: The Environmental Protection Agency (EPA) is proposing to approve revisions to the San Diego County Air Pollution Control District (SDCAPCD) and Mojave Desert Air Quality Management District (MDAQMD) portions of the California State Implementation Plan (SIP). These revisions concern negative declarations for the Control Techniques Guidelines (CTG) for the Oil and Natural Gas Industry (Oil and Natural Gas CTG). We are taking comments on this proposal to approve the SDCAPCD and MDAQMD negative declarations into the California SIP. We plan to follow with a final action.

DATES: Comments must be received on or before October 23, 2024.

ADDRESSES: Submit your comments, identified by Docket ID No. EPA-R09-OAR-2024-0418 at https://www.regulations.gov. For comments submitted at Regulations.gov, follow the online instructions for submitting comments. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, please contact the person identified in the FOR FURTHER INFORMATION CONTACT section. For the full EPA public comment policy, information about CBI or multimedia submissions, and general guidance on making effective comments, please visit https://www.epa.gov/dockets/commenting-epa-dockets. If you need assistance in a language other than English or if you are a person with a disability who needs a reasonable accommodation at no cost to you, please contact the person identified in the FOR FURTHER INFORMATION CONTACT section.

FOR FURTHER INFORMATION CONTACT: Eugene Chen, EPA Region IX, 75 Hawthorne St., San Francisco, CA 94105. By phone: (415) 947-4304 or by email at chen.eugene@epa.gov.

SUPPLEMENTARY INFORMATION: Throughout this document, “we,” “us” and “our” refer to the EPA.

Table of Contents

I. The State's Submittal

A. What documents did the State submit?

B. Are there other versions of this/these documents?

C. What is the purpose of the submitted documents?

II. The EPA's Evaluation and Action

A. How is the EPA evaluating the documents?

B. Do the documents meet the evaluation criteria?

C. Proposed Action and Public Comment

III. Statutory and Executive Order Reviews

I. The State's Submittal

A. What documents did the State submit?

Table 1 lists the documents addressed by this proposal with the dates that they were adopted by the local air agencies and submitted by the California Air Resources Board (CARB).

Table 1—Submitted Documents
Local agency | Document | Adopted | Submitted to EPA
SDCAPCD | 2020 Reasonably Available Control Technology Demonstration for the National Ambient Air Quality Standards for Ozone in San Diego County (“2020 RACT SIP”)—Negative Declaration for Oil and Natural Gas CTG | 10/14/2020 | 12/28/2020
MDAQMD | 70 ppb Ozone Standard Implementation Evaluation: RACT SIP Analysis; Federal Negative Declarations; and Emission Statement Certification—Negative Declaration for Oil and Natural Gas CTG | 10/28/2019 | 12/20/2019

For the SDCAPCD submittal, we are only proposing action on the negative declaration for the Oil and Natural Gas CTG in Attachment B and are not proposing action on any other elements of the submittal. Similarly, for the MDAQMD submittal, we are only proposing action on the negative declaration for the Oil and Natural Gas CTG in Table 2 and are not proposing action on any other elements of the submittal. In both cases, the negative declaration for the Oil and Natural Gas CTG was submitted for the 2008 and 2015 ozone National Ambient Air Quality Standards (NAAQS).1 2

¹ Page 10 of MDAQMD 70 ppb O3 Evaluation, Final Staff Report.

² Page B-10 of SDCAPCD 2020 RACT SIP, Attachment B.

On May 6, 2021, the EPA determined that the SDCAPCD negative declaration for the Oil and Natural Gas CTG met the SIP submittal completeness criteria in 40 CFR part 51, appendix V.³ On June 20, 2020, the MDAQMD submittal, including the Oil and Gas CTG negative declaration, was deemed by operation of law to meet the SIP completeness criteria in 40 CFR part 51, appendix V.

³ See Docket Item B-01, Letter dated May 6, 2021, from Elizabeth J. Adams, Director, Air Division, EPA Region IX, to Richard W. Corey, Executive Officer, CARB.

B. Are there other versions of these documents?

There are no other versions of the SDCAPCD submittal, but we previously approved the negative declarations from the 2020 RACT SIP for the CTGs titled Control of Volatile Organic Emissions from Manufacture of Synthesized Pharmaceutical Products (EPA-450/2-78-029), Control of Volatile Organic Emissions from Miscellaneous Metal and Plastic Parts Coatings (EPA-453/R-08-003), Tables 3 through 6, and Control Techniques Guidelines for Fiberglass Boat Manufacturing Materials (EPA-453/R-08-004).⁴ There are no other versions of the MDAQMD submittal, and we have not previously taken action on any elements of the submittal.

⁴ 87 FR 38665 (June 29, 2022).

C. What is the purpose of the submitted documents?

Volatile organic compounds (VOC) and nitrogen oxides (NOX) in the presence of sunlight can lead to the formation of ground-level ozone or “smog,” which can result in significant impacts to human health and the environment. Section 110(a) of the CAA requires states to submit regulations that control VOC emissions.

Clean Air Act (CAA) sections 182(b)(2) and (f) require that SIPs for ozone nonattainment areas classified as “Moderate” or above implement reasonably available control (RACT) for any source covered by a Control Techniques Guidelines (CTG) document and for any major source of VOCs or NOX. On October 26, 2015, the EPA finalized action to revise the 8-hour ozone NAAQS from 0.075 to 0.070 ppm.⁵ On June 4, 2018, the EPA originally designated San Diego County as Moderate nonattainment for the 2015 8-hour ozone NAAQS.⁶ San Diego County has subsequently been reclassified from Moderate to “Severe” nonattainment.⁷ On June 4, 2018, the EPA also designated the West Mojave Desert area, which includes portions of San Bernardino and Los Angeles Counties, as Severe nonattainment for the 2015 8-hour ozone NAAQS. The SDCAPCD has jurisdiction over the entirety of San Diego County, and the MDAQMD has jurisdiction over the San Bernardino County portion of the West Mojave Desert nonattainment area.

⁵ 80 FR 65292.

⁶ 83 FR 25776.

⁷ 86 FR 29522. San Diego County voluntarily requested reclassification from Moderate to Severe nonattainment. The applicable attainment date would be as expeditious as practicable but no later than August 3, 2033 for the 2015 ozone NAAQS.

As a result of their Severe classifications for the 2015 ozone NAAQS, SDCAPCD, and MDAQMD must, at a minimum, adopt RACT-level controls for all sources covered by a CTG document and for all major non-CTG sources of VOCs or NOX within their respective nonattainment areas. Any stationary source that emits or has the potential to emit at least 25 tons per year (tpy) of VOCs or NOX is considered a major stationary source in a Severe ozone nonattainment area.⁸

⁸ CAA sections 182(d) and (f) and 302(j).

Section III.D of the preamble to the EPA's final rule to implement the 2008 ozone NAAQS discusses RACT requirements.⁹ It states, in part, that RACT SIPs must contain adopted RACT regulations and certifications (where appropriate) that existing provisions meet the RACT requirement.¹⁰ Alternatively, for a source category covered by a CTG document where a District has no applicable stationary sources or emitting facilities, a District may adopt and submit a negative declaration documenting that there are no sources covered by the CTG. The submitted documents we are acting upon represent these Districts' negative declarations for the Oil and Natural Gas CTG for the 2008 and 2015 ozone NAAQS.¹¹

⁹ 80 FR 12264 (March 6, 2015). Per 83 FR 62998 (December 6, 2018), these provisions were retained without significant revision for purposes of implementing the 2015 ozone NAAQS,

¹⁰ Id. at 12278.

¹¹ Publication of the Oil and Natural Gas CTG occurred in October 2016, which was after several Districts had already adopted their RACT SIP revisions for the 2008 ozone NAAQS. Due to this timing, some Districts submitted their negative declaration for this CTG under separate cover, or, in the case of SDCAPCD and MDAQMD, relied upon their respective RACT SIP revisions for the 2015 ozone NAAQS to also address this CTG for the 2008 ozone NAAQS.

II. The EPA's Evaluation and Action

A. How is the EPA evaluating the documents?

As discussed in section I.C., SDCAPCD and MDAQMD must demonstrate that the Districts' rules implement RACT for all sources covered by a CTG document as well as each major source of VOCs or NOX. If a District has no sources covered by a particular CTG document, thus not requiring a RACT rule for such sources, then States may submit negative declarations for those CTGs for approval into the SIP. To do so, the submittal should provide reasonable assurances that no sources subject to the CTG's requirements currently exist in the relevant ozone nonattainment area.

Guidance and policy documents that we used to evaluate the negative declarations include the following:

1. “State Implementation Plans; General Preamble for the Implementation of Title I of the Clean Air Act Amendments of 1990,” 57 FR 13498 (April 16, 1992); 57 FR 18070 (April 28, 1992).

2. EPA 453/B-16-001, Control Techniques Guidelines for the Oil and Natural Gas Industry.

B. Do the documents meet the evaluation criteria?

The submitted documents contain the SDCAPCD and MDAQMD's certifications that there are no sources within the ozone nonattainment areas under their respective jurisdictions that are subject to the Oil and Natural Gas CTG for the 2008 and 2015 8-hour ozone NAAQS. The Districts based their negative declarations on reviews of their permitting files, emission inventories, and in consultation with District enforcement staff. We reviewed available permitting, enforcement, and emission inventories for these two Districts.¹² In addition, we accessed the California Department of Conservation Geologic Energy Management Division (CalGEM) Well Finder website, which contains an online mapping application of oil and gas industry information.¹³ Based on our review of this information, we did not identify any sources that would be subject to the Oil and Natural Gas CTG, and we agree with the SDCAPCD and MDAQMD negative declarations.¹⁴

¹² See Docket Item B-03, “CARB EI 2020 SD and MD.xlsx”.

¹³ Available at https://www.conservation.ca.gov/calgem/Pages/WellFinder.aspx.

¹⁴ We note that while there are several natural gas compressor stations operating in MDAQMD, they are not subject to the Oil and Natural Gas CTG because they are located after custody transfer and do not engage in the production of natural gas.

C. Proposed Action and Public Comment

As authorized in section 110(k)(3) of the Act, the EPA proposes to approve the SDCAPCD and MDAQMD negative declarations for the Oil and Natural Gas CTG because they fulfill the relevant requirements in CAA sections 110(a), 110(l), and 182(b)(2). We will accept comments from the public on this proposal until October 23, 2024. If we take final action to approve the submitted negative declarations as proposed, our final action will incorporate these negative declarations into the federally enforceable SIP. In addition, it will address the EPA's obligation to promulgate a FIP for the SDCAPCD arising from our November 16, 2020 finding of failure to submit for the Oil and Natural Gas CTG.¹⁵

¹⁵ 85 FR 72963. Our November 16, 2020 finding of failure to submit also triggered offset sanctions and highway funding sanctions. These sanctions clocks were extinguished by SDCAPCD's December 29, 2020 submittal and our May 6, 2021 letter determining that the District's negative declaration submittal was complete. See Docket Item B-01.

III. Statutory and Executive Order Reviews

Under the Clean Air Act, the Administrator is required to approve a SIP submission that complies with the provisions of the Act and applicable Federal regulations. 42 U.S.C. 7410(k); 40 CFR 52.02(a). Thus, in reviewing SIP submissions, the EPA's role is to approve State choices, provided that they meet the criteria of the Clean Air Act. Accordingly, this proposed action merely proposes to approve State law as meeting Federal requirements and does not impose additional requirements beyond those imposed by State law. For that reason, this proposed action:

• Is not a significant regulatory action subject to review by the Office of Management and Budget under Executive Orders 12866 (58 FR 51735, October 4, 1993) and 14094 (88 FR 21879, April 11, 2023);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not subject to Executive Order 13045 (62 FR 19885, April 23, 1997) because it proposes to approve a State program;

• Is not a significant regulatory action subject to Executive Order 13211 (66 FR 28355, May 22, 2001); and

• Is not subject to requirements of section 12(d) of the National Technology Transfer and Advancement Act of 1995 (15 U.S.C. 272 note) because application of those requirements would be inconsistent with the Clean Air Act.

In addition, the SIP is not approved to apply on any Indian reservation land or in any other area where the EPA or an Indian tribe has demonstrated that a tribe has jurisdiction. In those areas of Indian country, the rulemaking does not have Tribal implications and will not impose substantial direct costs on Tribal governments or preempt Tribal law as specified by Executive Order 13175 (65 FR 67249, November 9, 2000).

Executive Order 12898 (Federal Actions To Address Environmental Justice in Minority Populations and Low-Income Populations, 59 FR 7629, February 16, 1994) directs Federal agencies to identify and address “disproportionately high and adverse human health or environmental effects” of their actions on communities with environmental justice (EJ) concerns to the greatest extent practicable and permitted by law. The EPA defines EJ as “the fair treatment and meaningful involvement of all people regardless of race, color, national origin, or income with respect to the development, implementation, and enforcement of environmental laws, regulations, and policies.” The EPA further defines the term fair treatment to mean that “no group of people should bear a disproportionate burden of environmental harms and risks, including those resulting from the negative environmental consequences of industrial, governmental, and commercial operations or programs and policies.”

The State did not evaluate EJ considerations as part of its SIP submittal; the CAA and applicable implementing regulations neither prohibit nor require such an evaluation. The EPA did not perform an EJ analysis and did not consider EJ in this action. Consideration of EJ is not required as part of this action, and there is no information in the record inconsistent with the stated goal of Executive Order 12898 of achieving EJ for communities with EJ concerns.

List of Subjects in 40 CFR Part 52

Environmental protection, Air pollution control, Incorporation by reference, Intergovernmental relations, Ozone, Reporting and recordkeeping requirements, Volatile organic compounds.

Dated: September 16, 2024.
Martha Guzman Aceves,
Regional Administrator, Region IX.

[FR Doc. 2024-21646 Filed 9-20-24; 8:45 am]

BILLING CODE 6560-50-P